DEPARTMENT OF TRANSPORTATION

Federal Aviation Administration

14 CFR Parts 91 and 136

[Docket No. FAA-1998-4521]

National Air Tour Safety Standards

AGENCY: Federal Aviation Administration, DOT.

ACTION: Notice of office of management and budget approval for information collection.

SUMMARY: This notice announces the Office of Management and Budget's (OMB) approval of the information collection requirement in the final rule published on February 13, 2007 (72 FR 6884). The sections of the final rule pending approval of this information collection request are effective upon publication of this notice.

DATES: FAA received OMB approval for the information collection requirement in the Final Rule on April 10, 2007. The compliance date for information collection requirements in 14 CFR 91.146, 91.147, 136.7, and 136.13 is April 18, 2007.

FOR FURTHER INFORMATION CONTACT: Alberta Brown, Air Transportation Division, AFS-200, Federal Aviation Administration, 800 Independence Avenue, SW., Washington, DC 20591; telephone: (202) 267-8166; facsimile: (202) 267-8229; e-mail: alberta.brown@faa.gov.

SUPPLEMENTARY INFORMATION:

Background

On February 13, 2007, the FAA published the final rule, “National Air Tour Safety Standards,” in the Federal Register. The rule standardized requirements for air tour operations and consolidated air tour safety standards in Title 14 of the Code of Federal Regulations part 136. In the DATES section of the final rule, we noted that affected parties did not need to comply with the information collection requirements in certain sections of the rule until the Office of Management and Budget (OMB) approved the FAA's request to collect the information.

In accordance with the Paperwork Reduction Act, OMB approved the FAA's request for new information collection on April 10, 2007, and assigned the information collection OMB Control Number 2120-0717. The control number was not available to include when the final rule was published, thus necessitating this notice. The FAA request was approved by OMB without change and expires on April 30, 2010.

49 U.S.C. 106(g), 40113, 40119, 41706, 44101, 44701-44702, 44705, 44709-44711, 44713, 44716-44717, 44722, 46105, grants authority to the Administrator to publish this notice. The final rule (72 FR 6884) became effective on March 15, 2007, and the compliance date for information collection requirements in 14 CFR 91.146, 91.147, 136.7, and 136.13 is April 18, 2007.

Issued in Washington, DC, on April 12, 2007.
Pamela Hamilton-Powell,
Director, Office of Rulemaking.

[FR Doc. E7-7300 Filed 4-17-07; 8:45 am]

BILLING CODE 4910-13-P